DEPARTMENT OF COMMERCE

International Trade Administration

[A-201-805]

Certain Circular Welded Non-Alloy Steel Pipe from Mexico: Preliminary Results and Partial Rescission of Antidumping Duty Administrative Review; 2011-2012

AGENCY: Import Administration, International Trade Administration, Department of Commerce.

SUMMARY: In response to requests by interested parties, the Department of Commerce (the Department) is conducting an administrative review of the antidumping duty order on certain circular welded non-alloy steel pipe from Mexico. This administrative review originally covered eight respondents: Conduit S.A. de C.V. (Conduit); Ternium Mexico, S.A. de C.V. (Ternium); Tuberia Nacional, S.A. de C. V. (TUNA); Lamina y Placa Comercial, S.A. de C.V. (Lamina); Mueller Comercial de Mexico, S. de R.L. de C.V. (Mueller); Regiomontana de Perfiles y Tubos, S.A. de C.V. (Regiopytsa); PYTCO, S.A. de C.V. (PYTCO); and Southland Pipe Nipples Co., Inc. (Southland). All requests for administrative review of PYTCO, Conduit, Southland, and Ternium were withdrawn and we are consequently rescinding this administrative review, in part, with respect to these four companies. We preliminarily determine that TUNA, Lamina, Mueller, and Regiopysta made no shipments during the period of review (POR). Interested parties are invited to comment on these preliminary results.

DATES: Effective Date: August 9, 2013.

FOR FURTHER INFORMATION CONTACT: Mark Flessner or Robert James, AD/CVD Operations, Office 7, Import Administration, International Trade Administration, U.S. Department of Commerce, 14th Street and Constitution Avenue NW., Washington, DC 20230; telephone: (202) 482-6312 or (202) 482-0469, respectively.

SUPPLEMENTARY INFORMATION:

Period of Review

The POR is November 1, 2011, through October 31, 2012.

Scope of the Order

The products covered by the order are circular welded non-alloy steel pipes and tubes, of circular cross-section, not more than 406.4 millimeters (16 inches) in outside diameter, regardless of wall thickness, surface finish (black, galvanized, or painted), or end finish (plain end, beveled end, threaded, or threaded and coupled). The merchandise covered by the order and subject to this review is currently classified in the Harmonized Tariff Schedule of the United States (HTSUS) at subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive. A full description of the scope of the order is contained in the Memorandum from Christian Marsh, Deputy Assistant Secretary for Antidumping and Countervailing Duty Operations, to Paul Piquado, Assistant Secretary for Import Administration, “Decision Memorandum for Preliminary Results of Antidumping Duty Administrative Review: Certain Circular Welded Non-Alloy Steel Pipe from Mexico,” (Preliminary Decision Memorandum), dated concurrently with this notice, which is hereby adopted by this notice.

The Preliminary Decision Memorandum is a public document and is on file electronically via Import Administration's Antidumping and Countervailing Duty Centralized Electronic Service System (IA ACCESS). IA ACCESS is available to registered users at http://iaaccess.trade.gov, and is available to all parties in the Central Records Unit, Room 7046 of the main Department of Commerce building. In addition, a complete version of the Preliminary Decision Memorandum can be accessed directly on the internet at http://www.trade.gov/ia/. The signed Preliminary Decision Memorandum and the electronic versions of the Preliminary Decision Memorandum are identical in content.

Background

Timely requests for administrative review of eight companies were received from parties.¹ For a full description of requests for review and the methodology underlying our conclusions, see the Preliminary Decision Memorandum.

¹ These eight companies are Conduit, Ternium, TUNA, Lamina, Mueller, Regiopytsa, PYTCO, Southland. By its clarification of December 10, 2013, the petitioner, United States Steel Corporation, excluded Southland from its requests; see the Preliminary Decision Memorandum at 2.

Partial Rescission of Administrative Review

All requests for review were timely withdrawn for PYTCO, Conduit, Southland, and Ternium. Therefore, in accordance with 19 CFR 351.213(d)(1), we rescind, in part, the administrative review with respect to these companies.

Preliminary Determination of No Shipments

TUNA, Lamina, Mueller, and Regiopytsa have each submitted claims of no shipments during the POR. None of these statements is inconsistent with the data contained in the U.S. Customs and Border Protection (CBP) Information Memorandum.² No party has submitted comments with respect to either the CBP Information Memorandum or any party's claim of no shipments. In accordance with our standard practice with claims of no shipment, the Department made additional inquiries to CBP for each of these companies. We received no information from CBP to contradict the results of our data queries and the claims made by these companies. Therefore, we preliminarily determine that TUNA, Lamina, Mueller, and Regiopysta made no shipments during the POR. For further discussion, see the Preliminary Decision Memorandum.

² See the memorandum from Mark Flessner to the File entitled, “Certain Circular Welded Non-Alloy Steel Pipe from Mexico: Placement on the Record of U.S. Customs and Border Patrol Information for 2011-2012 Period of Review” (CBP Information Memorandum). Note that the agency's proper title, U.S. Customs and Border Protection, was misstated in the memorandum title.

Consistent with our practice, the Department finds that it is not appropriate to rescind the review with respect to TUNA, Lamina, Mueller, and Regiopysta, but rather to complete the review with respect to TUNA, Lamina, Mueller, and Regiopysta, and to issue appropriate instructions to CBP based on the final results of this review.

Preliminary Results of Review

For the respondents which remain under review (TUNA, Lamina, Mueller, and Regiopytsa), the Department preliminarily finds that each had no shipments of subject merchandise during the POR. Therefore, the Department has not calculated a weighted-average dumping margin for any respondent in this administrative review.

Disclosure and Public Comment

Pursuant to 19 CFR 351.309(c), interested parties may submit cases briefs not later than 30 days after the date of publication of this notice. Rebuttal briefs, limited to issues raised in the case briefs, may be filed not later than five days after the date for filing case briefs.³ Parties who submit case briefs or rebuttal briefs in this proceeding are encouraged to submit with each argument: (1) A statement of the issue; (2) a brief summary of the argument; and (3) a table of authorities.⁴ Case and rebuttal briefs should be filed using IA ACCESS.⁵

³ See 19 CFR 351.309(d).

⁴ See 19 CFR 351.309(c)(2) and (d)(2).

⁵ See 19 CFR 351.303.

Pursuant to 19 CFR 351.310(c), interested parties who wish to request a hearing, or to participate if one is requested, must submit a written request to the Assistant Secretary for Import Administration, filed electronically via IA ACCESS. An electronically filed document must be received successfully in its entirety by the Department's electronic records system, IA ACCESS, by 5:00 p.m. Eastern Standard Time within 30 days after the date of publication of this notice.⁶ Requests should contain: (1) The party's name, address and telephone number; (2) the number of participants; and (3) a list of issues to be discussed. Issues raised in the hearing will be limited to those raised in the respective case briefs. The Department will issue the final results of this administrative review, including the results of its analysis of the issues raised in any written briefs, not later than 120 days after the date of publication of this notice, pursuant to section 751(a)(3)(A) of the Act.

⁶ See 19 CFR 351.310(c).

Cash Deposit Requirements

The Department has not calculated weighted-average dumping margins for any respondent in this administrative review. Therefore, the existing cash deposit rates will continue to remain in effect.

Assessment Rates

Upon completion of the administrative review, the Department shall determine, and CBP shall assess, antidumping duties on all appropriate entries, in accordance with 19 CFR 351.212. The Department intends to issue appraisement instructions directly to CBP 41 days after the date of publication of the final results of this review.

As noted above, the Department has rescinded this administrative review for PYTCO, Conduit, Southland and Ternium. For these exporters and/or producers, the Department will instruct CBP to liquidate all appropriate entries as entered.

If TUNA's, Lamina's, Mueller's, or Regiopysta's weighted-average dumping margins are not zero or de minimis (i.e., less than 0.5 percent) in the final results of this review, we will calculate importer-specific assessment rates on the basis of the ratio of the total amount of dumping calculated for the importer's examined sales and the total entered value of the sales in accordance with 19 CFR 351.212(b)(1). Where either a respondent's weighted-average dumping margin is zero or de minimis, or an importer-specific assessment rate is zero or de minimis, we will instruct CBP to liquidate the appropriate entries without regard to antidumping duties.

The Department clarified its “automatic assessment” regulation on May 6, 2003.⁷ This clarification will apply to entries of subject merchandise during the POR produced by TUNA, Lamina, Mueller, or Regiopysta for which these companies did not know that the merchandise was destined for the United States. In such instances, we will instruct CBP to liquidate unreviewed entries at the all-others rate if there is no rate for the intermediate company(ies) involved in the transaction. Further, instead of rescinding the review with respect to TUNA, Lamina, Mueller, and Regiopysta, we find it appropriate to complete the review and issue liquidation instructions to CBP concerning entries for TUNA, Lamina, Mueller, and Regiopysta following issuance of the final results of review. If we continue to find that TUNA, Lamina, Mueller, and Regiopysta had no shipments of subject merchandise in the final results, we will instruct CBP to liquidate any existing entries of merchandise produced by TUNA, Lamina, Mueller, and Regiopysta, but exported by other parties at the rate for the intermediate reseller, if available, or at the all-others rate.⁸

⁷ For a full discussion of this clarification, see Antidumping and Countervailing Duty Proceedings: Assessment of Antidumping Duties, 68 FR 23954 (May 6, 2003).

⁸ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Tariff Act of 1930, as amended.

Dated: August 1, 2013.
Paul Piquado,
Assistant Secretary for Import Administration.

Appendix I

List of Topics Discussed in the Preliminary Decision Memorandum

A. Partial Rescission of Administrative Review

B. No Shipments Claims

[FR Doc. 2013-19350 Filed 8-8-13; 8:45 am]

BILLING CODE 3510-DS-P